DEPARTMENT OF JUSTICE

[CPCLO Order No. 001-2010]

Privacy Act of 1974; System of Records

AGENCY: Justice Management Division, DOJ.

ACTION: Minor modification to a system of records.

SUMMARY: Pursuant to the Privacy Act of 1974, 5 U.S.C. 552a, the Justice Management Division, Department of Justice, proposes to modify the Accounting Systems for the Department of Justice, Justice/DOJ-001, to update the “Record Source Categories” section of the notice. The full text of this System of Records Notice was last published at 69 FR 31406, June 3, 2004.

This minor modification does not require a comment period or notification to OMB and the Congress. The modification will be effective March 22, 2010. The modification to the system description is set forth below.

FOR FURTHER INFORMATION CONTACT: Robin Moss, Privacy Analyst, Office of Privacy and Civil Liberties, Department of Justice, Washington, DC 20530.

Dated: March 12, 2010.
Nancy C. Libin,
Chief Privacy and Civil Liberties Officer.

DEPARTMENT OF JUSTICE-001

SYSTEM NAME:

Accounting Systems for the Department of Justice (DOJ).

* * * * *

RECORD SOURCE CATEGORIES:

[Delete the current entry and substitute the following.]

Individuals covered by the system, Federal agencies, and banking/credit institutions under contract to provide financial services related to this system of records to the Department.

* * * * *

[FR Doc. 2010-6213 Filed 3-19-10; 8:45 am]

BILLING CODE 4410-FB-P